NUCLEAR REGULATORY COMMISSION

[NRC-2016-0001]

Sunshine Act Meeting

DATE: June 28, 2016.

PLACE: Commissioners' Conference Room, 11555 Rockville Pike, Rockville, Maryland.

STATUS: Public.

Week of June 27, 2016

Wednesday, June 29, 2016

9:55 a.m. Affirmation Session (Public Meeting) (Tentative)

Strata Energy Inc. (Ross in Situ Uranium Recovery Project)—Joint Intervenors' Petition for Review of Initial Decision, LBP-15-3, and Related Interlocutory Decisions. (Tentative)

* * * * *

ADDITIONAL INFORMATION: By a vote of 4-0 on June 27, 2016, the Commission determined pursuant to U.S.C. 552b(e) and 9.107(a) of the Commission's rules that the item in the above referenced Affirmation Session be held with less than one week notice to the public. The meeting is scheduled on June 29, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: June 28, 2016.
Glenn Ellmers,
Policy Coordinator, Office of the Secretary.

[FR Doc. 2016-15650 Filed 6-28-16; 11:15 am]

BILLING CODE 7590-01-P